DEPARTMENT OF THE INTERIOR

Minerals Management Service

30 CFR Part 250

RIN 1010-AC32

Postlease Operations Safety

AGENCY: Minerals Management Service (MMS), Interior.

ACTION: Corrections to Final Regulations.

SUMMARY: This document contains corrections to the final rule titled “Postlease Operations Safety” that was published Tuesday, December 28, 1999 (64 FR 72756). We are correcting a section title and adding a word in the section that was inadvertently omitted.

EFFECTIVE DATE: January 27, 2000.

FOR FURTHER INFORMATION CONTACT: Kumkum Ray, (703) 787-1600.

SUPPLEMENTARY INFORMATION:

Background

The final regulations that are the subject of these corrections supersede 30 CFR 250, subpart A, General, regulations on the effective date and affect all operators and lessees on the Outer Continental Shelf.

With respect to the corrections, the title of § 250.142 is inaccurate and the word “District” was omitted inadvertently in the section.

Need for Correction

As published, the final regulations contain errors which may prove to be misleading and are in need of clarification.

Correction of Publication

Accordingly, the publication on December 28, 1999, of the final regulations, which were the subject of FR Doc. 99-31869, is corrected as follows:

§ 250.142 [Corrected]

On page 72783, in the first column, the title of and the language in § 250.142 are corrected to read :

§ 250.142 How do I receive approval for departures?

We may approve departures to the operating requirements. You may apply for a departure by writing to the District or Regional Supervisor.

Dated: January 31, 2000.
E.P. Danenberger,
Chief, Engineering and Operations Division.

[FR Doc. 00-3109 Filed 2-9-00; 8:45 am]

BILLING CODE 4310-MR-U